DEPARTMENT OF ENERGY

Federal Energy Regulatory Commission

[Docket No. EL18-135-000]

Ohio Valley Electric Corporation v. First Energy Solutions Corp.; Notice of Complaint

Take notice that on March 26, 2018, pursuant to section 306 of the Federal Power Act, 16 U.S.C. 825e, and Rule 206 of the Federal Energy Regulatory Commission's (Commission) Rules of Practice and Procedure, 18 CFR 385.206 (2018), the Ohio Valley Electric Corporation and its wholly-owned subsidiary, Indiana-Kentucky Electric Corporation (collectively, Complainant), filed a formal complaint against FirstEnergy Solutions Corp. (Respondent) asserting that the Respondent will breach the Inter-Company Power Agreement, and also alleges that said breach will constitute a violation of its obligations under that agreement, all as more fully explained in the complaint.

Complainant certifies that copies of the complaint were served on the contacts for Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on April 16, 2018.

Dated: March 28, 2018.
Kimberly D. Bose,
Secretary.

[FR Doc. 2018-06784 Filed 4-3-18; 8:45 am]

BILLING CODE 6717-01-P